DEPARTMENT OF ENERGY

Federal Energy Regulatory Commission

Combined Notice of Filings

Take notice that the Commission has received the following Natural Gas Pipeline Rate and Refund Report filings:

Filings Instituting Proceedings

Docket Numbers: RP17-346-003.

Applicants: Northwest Pipeline LLC.

Description: Compliance filing RP17-346 Phase 2 Settlement Rates Compliance Filing to be effective10/1/2018.

Filed Date: 8/30/18.

Accession Number: 20180830-5215.

Comments Due: 5 p.m. ET 9/11/18.

Docket Numbers: RP18-1094-000.

Applicants: Ruby Pipeline, L.L.C.

Description: § 4(d) Rate Filing: FLU_EPC Update to be effective 10/1/2018.

Filed Date: 8/30/18.

Accession Number: 20180830-5181.

Comments Due: 5 p.m. ET 9/11/18.

Docket Numbers: RP18-1095-000.

Applicants: Transcontinental Gas Pipe Line Company.

Description: § 4(d) Rate Filing: Negotiated Rates—Cherokee AGL—Replacement Shippers—Sep 2018 to be effective 9/1/2018.

Filed Date: 8/30/18.

Accession Number: 20180830-5182.

Comments Due: 5 p.m. ET 9/11/18.

Docket Numbers: RP18-1096-000.

Applicants: Northwest Pipeline LLC.

Description: § 4(d) Rate Filing: 2018 Winter Fuel Filing to be effective10/1/2018.

Filed Date: 8/30/18.

Accession Number: 20180830-5184.

Comments Due: 5 p.m. ET 9/11/18.

Docket Numbers: RP18-1097-000.

Applicants: Southwest Gas Storage Company.

Description: § 4(d) Rate Filing: Negotiated Rate Provisions to be effective 10/1/2018.

Filed Date: 8/30/18.

Accession Number: 20180830-5189.

Comments Due: 5 p.m. ET 9/11/18.

Docket Numbers: RP18-1098-000.

Applicants: Colorado Interstate Gas Company, L.L.C.

Description: § 4(d) Rate Filing: Non-Conforming Negotiated Rate Agmt Filing (Anadarko Oct 18) to be effective 10/1/2018.

Filed Date: 8/30/18.

Accession Number: 20180830-5196.

Comments Due: 5 p.m. ET 9/11/18.

Docket Numbers: RP18-1099-000.

Applicants: El Paso Natural Gas Company, L.L.C.

Description: § 4(d) Rate Filing: Negotiated Rate Agreement Update (APS Sept 2018) to be effective9/1/2018.

Filed Date: 8/30/18.

Accession Number: 20180830-5197.

Comments Due: 5 p.m. ET 9/11/18.

Docket Numbers: RP18-1100-000.

Applicants: Rockies Express Pipeline LLC.

Description: § 4(d) Rate Filing: Neg Rate 2018-8-31 8 Neg Rates E2W to be effective 9/1/2018.

Filed Date: 8/30/18.

Accession Number: 20180830-5200.

Comments Due: 5 p.m. ET 9/11/18.

Docket Numbers: RP18-1101-000.

Applicants: El Paso Natural Gas Company, L.L.C.

Description: § 4(d) Rate Filing: Negotiated Rate Agreement Update (SRP 2018) to be effective 10/1/2018.

Filed Date: 8/30/18.

Accession Number: 20180830-5202.

Comments Due: 5 p.m. ET 9/11/18.

Docket Numbers: RP18-1102-000.

Applicants: Destin Pipeline Company, L.L.C.

Description: § 4(d) Rate Filing: Destin Revised Tariff Records Update Section 14 and 24 to be effective 9/1/2018.

Filed Date: 8/30/18.

Accession Number: 20180830-5207.

Comments Due: 5 p.m. ET 9/11/18.

Docket Numbers: RP18-1103-000.

Applicants: Dauphin Island Gathering Partners.

Description: § 4(d) Rate Filing: Negotiated Rate Filing 8-30-2018 to be effective 9/1/2018.

Filed Date: 8/30/18.

Accession Number: 20180830-5210.

Comments Due: 5 p.m. ET 9/11/18.

Docket Numbers: RP18-1104-000.

Applicants: Rockies Express Pipeline LLC.

Description: § 4(d) Rate Filing: Administrative Cleanup of Tariff to be effective 10/1/2018.

Filed Date: 8/30/18.

Accession Number: 20180830-5224.

Comments Due: 5 p.m. ET 9/11/18.

Docket Numbers: RP18-1105-000.

Applicants: El Paso Natural Gas Company, L.L.C.

Description: § 4(d) Rate Filing: Negotiated Rate Agreement Update (Pioneer Aug_Sept 2018) to be effective 8/31/2018.

Filed Date: 8/30/18.

Accession Number: 20180830-5226.

Comments Due: 5 p.m. ET 9/11/18.

Docket Numbers: RP11-2473-000.

Applicants: Gulf South Pipeline Company, LP.

Description: Report Filing: 2017 Cash Pool Filing to be effective N/A.

Filed Date: 8/31/18.

Accession Number: 20180831-5077.

Comments Due: 5 p.m. ET 9/12/18.

Docket Numbers: RP11-2474-000.

Applicants: Gulf Crossing Pipeline Company LLC.

Description: Report Filing: 2017 Cash Pool Filing to be effective N/A.

Filed Date: 8/31/18.

Accession Number: 20180831-5074.

Comments Due: 5 p.m. ET 9/12/18.

Accession Number: 20180831-5155.

Comments Due: 5 p.m. ET 9/12/18.

Docket Numbers: RP18-1106-000.

Applicants: Florida Gas Transmission Company, LLC.

Description: § 4(d) Rate Filing: Fuel filing on 8-31-18 to be effective10/1/2018.

Filed Date: 8/31/18.

Accession Number: 20180831-5070.

Comments Due: 5 p.m. ET 9/12/18.

Docket Numbers: RP18-1107-000.

Applicants: Gulf Crossing Pipeline Company LLC.

Description: § 4(d) Rate Filing: Cap Rel Neg Rate Agmt (XTO 1846 to SW Energy 2025) to be effective 9/1/2018

Filed Date: 8/31/18.

Accession Number: 20180831-5071.

Comments Due: 5 p.m. ET 9/12/18.

Docket Numbers: RP18-1108-000.

Applicants: Gulf South Pipeline Company, LP.

Description: § 4(d) Rate Filing: Cap Rel Neg Rate Agmt (Atlanta Gas 8438 to various eff 9-1-2018) to be effective 9/1/2018.

Filed Date: 8/31/18.

Accession Number: 20180831-5075.

Comments Due: 5 p.m. ET 9/12/18.

Docket Numbers: RP18-1109-000.

Applicants: Gulf South Pipeline Company, LP.

Description: § 4(d) Rate Filing: Cap Rel Neg Rate Agmts (Petrohawk 41455 releases eff 9-1-2018) to be effective9/1/2018.

Filed Date: 8/31/18.

Accession Number: 20180831-5076.

Comments Due: 5 p.m. ET 9/12/18.

Docket Numbers: RP18-1110-000.

Applicants: Dominion Energy Carolina Gas Transmission, LLC.

Description: Compliance filing DECG—2018 Penalty Crediting Sharing Report to be effective N/A.

Filed Date: 8/31/18.

Accession Number: 20180831-5083.

Comments Due: 5 p.m. ET 9/12/18.

Docket Numbers: RP18-1111-000.

Applicants: Dominion Energy Cove Point LNG, LP.

Description: Compliance filing DECP—2018 Revenue Crediting Report to be effective N/A.

Filed Date: 8/31/18.

Accession Number: 20180831-5095.

Comments Due: 5 p.m. ET 9/12/18.

Docket Numbers: RP18-1112-000.

Applicants: MarkWest Pioneer, L.L.C.

Description: § 4(d) Rate Filing: Quarterly Fuel Adjustment Filing to be effective 10/1/2018.

Filed Date: 8/31/18.

Accession Number: 20180831-5096.

Comments Due: 5 p.m. ET 9/12/18.

Docket Numbers: RP18-1113-000.

Applicants: MoGas Pipeline LLC.

Description: § 4(d) Rate Filing: MoGas Annual Fuel and Gas Loss Retention Percentage Adjustment to be effective 10/1/2018.

Filed Date: 8/31/18.

Accession Number: 20180831-5098.

Comments Due: 5 p.m. ET 9/12/18.

Docket Numbers: RP18-1114-000.

Applicants: Enable Gas Transmission, LLC.

Description: § 4(d) Rate Filing: Housekeeping 2018 to be effective 10/1/2018.

Filed Date: 8/31/18.

Accession Number: 20180831-5099.

Comments Due: 5 p.m. ET 9/12/18.

Docket Numbers: RP18-1115-000.

Applicants: Saltville Gas Storage Company L.L.C.

Description: § 4(d) Rate Filing: SGSC Limited Section 4 Rate Case 08-31-2018 to be effective 10/1/2018.

Filed Date: 8/31/18.

Accession Number: 20180831-5101.

Comments Due: 5 p.m. ET 9/12/18.

Docket Numbers: RP18-1116-000.

Applicants: Southern Star Central Gas Pipeline, Inc.

Description: § 4(d) Rate Filing: Vol 2—Negotiated Rate Agreement—Sequent to be effective 9/1/2018

Filed Date: 8/31/18.

Accession Number: 20180831-5102.

Comments Due: 5 p.m. ET 9/12/18.

Docket Numbers: RP18-1117-000.

Applicants: Texas Gas Transmission, LLC.

Description: § 4(d) Rate Filing: Cap Rel Neg Rate Agmt (EM Energy OH 35451 to Eco-Energy 37393) to be effective 9/1/2018.

Filed Date: 8/31/18.

Accession Number: 20180831-5103.

Comments Due: 5 p.m. ET 9/12/18.

Docket Numbers: RP18-1118-000.

Applicants: Texas Gas Transmission, LLC.

Description: § 4(d) Rate Filing: Cap Rel Neg Rate Agmt (RE GAs 34955 to JERA 37422) to be effective 9/1/2018

Filed Date: 8/31/18.

Accession Number: 20180831-5104.

Comments Due: 5 p.m. ET 9/12/18.

Docket Numbers: RP18-1119-000.

Applicants: Algonquin Gas Transmission, LLC.

Description: § 4(d) Rate Filing: Negotiated Rate—ConEd to Atlantic Energy—797443 to be effective 9/1/2018.

Filed Date: 8/31/18.

Accession Number: 20180831-5124.

Comments Due: 5 p.m. ET 9/12/18.

Docket Numbers: RP18-1120-000.

Applicants: Natural Gas Pipeline Company of America.

Description: § 4(d) Rate Filing: Negotiated Rate Agreement Filing—Chorpus Christi Liquefaction to be effective 10/1/2018.

Filed Date: 8/31/18.

Accession Number: 20180831-5131.

Comments Due: 5 p.m. ET 9/12/18.

Docket Numbers: RP18-1121-000.

Applicants: El Paso Natural Gas Company, L.L.C.

Description: § 4(d) Rate Filing: Negotiated Rate Agreement Update (Conoco Sep_Nov 18) to be effective 9/1/2018.

Filed Date: 8/31/18.

Accession Number: 20180831-5132.

Comments Due: 5 p.m. ET 9/12/18.

Docket Numbers: RP18-1122-000.

Applicants: Tennessee Gas Pipeline Company, L.L.C.

Description: § 4(d) Rate Filing: Modifications to Cashout Mechanism to be effective 10/1/2018.

Filed Date: 8/31/18.

Accession Number: 20180831-5134.

Comments Due: 5 p.m. ET 9/12/18.

Docket Numbers: RP18-1123-000.

Applicants: Colorado Interstate Gas Company, L.L.C.

Description: § 4(d) Rate Filing: Fuel and LUF Update Filing to be effective 10/1/2018.

Filed Date: 8/31/18.

Accession Number: 20180831-5135.

Comments Due: 5 p.m. ET 9/12/18.

Docket Numbers: RP18-1124-000.

Applicants: WBI Energy Transmission, Inc.

Description: § 4(d) Rate Filing: 2018 Semi-annual Fuel & Electric Power Reimbursement to be effective 10/1/2018.

Filed Date: 8/31/18.

Accession Number: 20180831-5143.

Comments Due: 5 p.m. ET 9/12/18.

Docket Numbers: RP18-1125-000.

Applicants: Colorado Interstate Gas Company, L.L.C.

Description: § 4(d) Rate Filing: Non-Conforming Agreements Filing (DCP and SW Energy Oct 18) to be effective 10/1/2018.

Filed Date: 8/31/18.

Accession Number: 20180831-5147.

Comments Due: 5 p.m. ET 9/12/18.

Docket Numbers: RP18-1126-000.

Applicants: Transcontinental Gas Pipe Line Company.

Description: § 4(d) Rate Filing: Transco RP18-XXX Rate Case Filing to be effective 10/1/2018.

Filed Date: 8/31/18.

Accession Number: 20180831-5149.

Comments Due: 5 p.m. ET 9/12/18.

Docket Numbers: RP18-1127-000.

Applicants: Dominion Energy Cove Point LNG, LP.

Description: § 4(d) Rate Filing: DECP—2018 Interim Fuel Retainage to be effective 10/1/2018.

Filed Date: 8/31/18.

Accession Number: 20180831-5167.

Comments Due: 5 p.m. ET 9/12/18.

Docket Numbers: RP18-1128-000.

Applicants: Northern Natural Gas Company.

Description: § 4(d) Rate Filing: 20180831 Negotiated Rate to be effective 9/1/2018.

Filed Date: 8/31/18.

Accession Number: 20180831-5168.

Comments Due: 5 p.m. ET 9/12/18.

Docket Numbers: RP18-1129-000.

Applicants: Enable Gas Transmission, LLC.

Description: § 4(d) Rate Filing: Negotiated Rate Filing—September 2018—Continental Resources 1011192 to be effective 9/1/2018.

Filed Date: 8/31/18.

Accession Number: 20180831-5178.

Comments Due: 5 p.m. ET 9/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2018.
Kimberly D. Bose,
Secretary.

[FR Doc. 2018-19552 Filed 9-7-18; 8:45 am]

BILLING CODE 6717-01-P